DEPARTMENT OF COMMERCE

National Oceanic and Atmospheric Administration

RIN 0648-XL85

Notice of Availability of a Draft Supplemental Environmental Impact Statement for Replacement of NOAA Southwest Fisheries Science Center in La Jolla, CA

AGENCY: National Oceanic and Atmospheric Administration (NOAA), Commerce.

ACTION: Notice of availability of the Draft Supplemental Environmental Impact Statement (SEIS); Request for comments.

SUMMARY: NOAA announces the public release of the Draft SEIS in accordance with the National Environmental Policy Act of 1969, the Council on Environmental Quality Regulations, and NOAA Administrative Order 216-6 Environmental Review Procedures for Implementing the National Environmental Policy Act. Since completion of the Final Environmental Impact Statement/Environmental Impact Report (EIS/EIR) in April of 2009, substantial changes to the proposed action are being considered by NOAA within portions of the project area containing the 2.5-acre property currently occupied by Southwest Fisheries Science Center (SWFSC) and managed by NOAA under long-term lease from the University of California Office of the President (UCOP). These newly proposed actions were not previously analyzed in the Final EIS/EIR and involve additional demolition activities, substantial excavation and grading, installation of a geohazard soil stabilization system, structural upgrade to remaining structures, and other site alterations. These proposed actions were deemed necessary by NOAA based on additional geotechnical information and design recommendations received since approval of the Final EIS/EIR. The SEIS evaluates each environmental topic addressed in the Final EIS/EIR, and focuses on the newly proposed action and its potential effects to the human environment. The No-Action Alternative was analyzed and assumes the newly proposed actions would not be implemented.

DATES: Written comments and input will be accepted on or before October 31, 2011.

ADDRESSES: Written comments should be sent to Robb Gries, Project Engineer, NOAA, Project Planning & Management—Western Region, 7600 Sand Point Way NE., BIN C15700, Seattle, WA 98115; e-mail robb.gries@noaa.gov.

FOR FURTHER INFORMATION CONTACT: Contact Mr. Robb Gries, NOAA Project Engineer, at the address provided above. A copy of the Draft SEIS can be viewed or downloaded at http://www.seco.noaa.gov/HTML_Blue/OCAO_NEPA.html.

SUPPLEMENTARY INFORMATION: The proposed action evaluated in the April 2009 Final EIS/EIR consisted of the demolition of Buildings B and C and the construction of a new SWFSC building on a property across La Jolla Shores Drive from the existing NOAA facilities. Currently, construction of the SWFSC building at the preferred site is underway. Demolition of Buildings B and C at the existing NOAA property would not occur until construction of the new SWFSC building has been completed.

A Notice of Intent to prepare SEIS was published in the Federal Register on June 30, 2011. Consistent with 40 CFR 1502.9(c)(1)(i), this SEIS focuses on the environmental effects of the proposed changes and feasible alternatives including the no-action alternative, and analyzes the potential effects to affected resources such as: geological conditions, hydraulic processes, construction noise, traffic/pedestrian circulation, air emissions, and protected wildlife. Separately, the University of California—San Diego (UCSD) and UCOP intend to determine what additional CEQA documentation is necessary, such as an Addendum to the Final EIS/EIR, based on the findings of the SEIS and other factors.

NOAA has submitted the Draft SEIS to the U.S. Environmental Protection Agency for review and comment, in conformance with NEPA implementing regulations. Copies of this document have been made available to persons who participated in the Final EIS/EIR scoping process, to other individuals expressing interest, and to local libraries in order to be accessible to the general public. NOAA is accepting comments on the Draft SEIS during a 45-day official comment period beginning September 19, 2011, and ending on October 31, 2011.

Dated: August 26, 2011.
William F. Broglie,
Chief Administrative Officer, National Oceanic and Atmospheric Administration.

[FR Doc. 2011-23987 Filed 9-16-11; 8:45 am]

BILLING CODE 3510-22-P